NATIONAL SCIENCE FOUNDATION

EarthScope Science and Education Advisory Committee; Notice of Meeting

In accordance with the Federal Advisory Committee Act (Pub. L. 92-463, as amended), the National Science Foundation announces the following meeting:

Name: EarthScope Science and Education Advisory Committee (#16638).

Dates/Time: 9 a.m.-9:30 p.m. Monday-Wednesday, June 21-23, 2004 8:30 a.m.-5 p.m. Thursday, June 24, 2004.

Place: Granlibakken Conf. Center, 725 Granlibakken Rd., Tahoe City, CA 96145.

Type of Meeting: Open.

Contact Person: Dr. James H. Whitcomb, Division of Earth Sciences, National Science Foundation, Suite 785, 4201 Wilson Boulevard, Arlington, VA 22230, Phone (703) 292-8553.

Minutes: May be obtained from the contact person listed above.

Purpose of Meeting: To carry out EarthScope proposal and management review, and to provide advice, recommendations, and oversight concerning EarthScope construction, operation, science and education support.

Agenda: June 21-23, 2004 9 a.m.-9:30 p.m.—Review the Project Execution Plan, program and facility management, installation technical plans, science plans, and progress reports of EarthScope. June 24, 2004 8 a.m-5 p.m.—Visit potential EarthScope installation sites.

Dated: June 4, 2004.
Susanne Bolton,
Committee Management Officer.

[FR Doc. 04-13039 Filed 6-8-04; 8:45 am]

BILLING CODE 7555-01-M